DEPARTMENT OF ENERGY

[Docket No. EA-227]

Application to Export Electric Energy; New York Independent System Operator, Inc.

AGENCY: Office of Fossil Energy, DOE.

ACTION: Notice of application.

SUMMARY: New York Independent System Operator, Inc. (NYISO) has applied for authority to transmit electric energy from the United States to Canada pursuant to section 202(e) of the Federal Power Act. In addition, NYISO is requesting expedited approval for their application.

DATES: Comments, protests or requests to intervene must be submitted on or before July 21, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On June 27, 2000, the Office of Fossil Energy (FE) of the Department of Energy (DOE) received an application from NYISO to transmit electric energy from the United States to Canada. NYISO is a not-for-profit New York corporation. NYISO does not own or control any electric power generation facilities, nor does it have a franchised electric power service area. NYISO does possess operational control over the transmission facilities in the state of New York. Those facilities continue to be owned by a group formerly known as the Member Systems of the New York Power Pool.

Two types of energy exports are proposed. First, in unforeseen circumstances, NYISO will make available emergency energy from its available generating capacity when a system emergency exists on Ontario's or Quebec's system or on the system of a third-party control area. A second type of energy export that may occur is an inadvertent energy transaction. Inadvertent energy is the difference between the actual metered energy interchange and the scheduled energy interchange between two adjacent control areas during transactions with Canada by others pursuant to their own export authority.

NYISO proposes to arrange for the delivery of electric energy to Canada over the existing international transmission facilities owned by Long Sault, Inc., New York Power Authority, and Niagara Mohawk Power Corporation. The construction, operation, maintenance, and connection of each of the international transmission facilities to be utilized by NYISO, as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the NYISO application to export electric energy to Canada should be clearly marked with Docket EA-227. Additional copies are to be filed directly with Michael C. Calimano, Vice President Operations & Reliability, Rob Fernandez, General Counsel, New York Independent System Operator, Inc., 3890 Carman Road, Schenectady, NY 12303 AND Arnold H. Quint, Edwin G. Kichline, Hunton & Williams, 1900 K Street, NW., Suite 1200, Washington, DC 20006.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity” and then “Pending Proceedings” from the options menus.

Issued in Washington, D.C., on June 30, 2000.
Anthony J. Como,
Deputy Director, Electric Power Regulation, Office of Coal & Power Im/Ex, Office of Coal & Power Systems, Office of Fossil Energy.

[FR Doc. 00-17118 Filed 7-5-00; 8:45 am]

BILLING CODE 6450-01-P